DEPARTMENT OF AGRICULTURE

Forest Service

Colville Resource Advisory Committee (RAC)

AGENCY: Forest Service, USDA.

ACTION: Notice of meeting.

SUMMARY: The Colville Resource Advisory Committee will meet on Thursday, July 29, 2004, at the Spokane Community College, Colville Campus, Monumental Room, 985 South Elm Street, Colville, Washington. The meeting will begin at 9 a.m. and conclude at 4 p.m. Agenda items include: (1) Review and approve meeting notes from June 29, 2004 meeting; (2) Fiscal Year 2005 Title II projects review and recommendation to the forest designated official on Pend Oreille County applications; and (3) Public Forum.

FOR FURTHER INFORMATION CONTACT: Direct questions regarding this meeting to Rick Brazell, Designated Federal Official or to Cynthia Reichelt, Public Affairs Officer, Colville National Forest, 765 S. Main, Colville, Washington 99114, (509) 684-7000.

Dated: July 13, 2004.
Donald N. Gonzalez,
Acting Forest Supervisor.

[FR Doc. 04-16488 Filed 7-23-04; 8:45 am]

BILLING CODE 3410-11-M